DEPARTMENT OF HEALTH AND HUMAN SERVICES

Agency for Healthcare Research and Quality

Statement of Organization, Functions, and Delegations of Authority

Part E, Chapter E (Agency for Healthcare Research and Quality), of the Statement of Organization, Functions, and Delegations of Authority for the Department of Health and Human Services (68 FR 44084, July 25, 2003, most recently amended at 79 FR 42326, on July 21, 2014) is amended to reflect recent organizational changes. The specific amendments are as follows:

I. Under Section E-10, Organization, delete F. Office of Communications and Knowledge Transfer and replace with the following:

F. Office of Communications.

II. Under Section E-20, Functions, delete Office of Communications and Knowledge Transfer in its entirety and replace with the following:

Office of Communications. Manages the Agency's communication activities, including print and electronic publishing, dissemination, and communications support, and media relations activities. Responsible for communicating information to internal and external stakeholders. Develops, implements, and manages programs to reach stakeholders about the results of AHRQ-funded research and evidence, tools and training materials, and data and measures. Helps stakeholders understand how AHRQ research, tools, and data can help improve quality and safety of care.

Shall be organized into the following three divisions:

• Division of Outreach and Stakeholder Engagement:

○ Assesses findings from AHRQ-funded research, products, and tools for dissemination and use by stakeholders;

○ Develops, coordinates, and implements dissemination plans using a wide variety of strategies and tactics;

○ Provides strategic guidance to Agency program staff and various Agency contractors on opportunities for dissemination;

○ Develops and coordinates outreach to prospective dissemination partners, and produces case studies on use of AHRQ findings and tools.

• Division of Print and Electronic Publishing:

○ Disseminates AHRQ research, tools, and data to stakeholders via both electronic and print publications. Manages the full publishing process from concept to Web site posting, including planning, advising and managing publishing projects for the Agency;

○ Writes and edits articles; packages products and tools for presentations and dissemination.

• Division of Media Relations:

○ Creates and implements strategy for traditional and social media relations activities as part of overall efforts to communicate with AHRQ stakeholders and partners about Agency-funded work;

All delegations and redelegations of authority to officers and employees of the Agency for Healthcare Research and Quality that were in effect immediately prior to the effective date of this reorganization shall continue in effect pending further redelegation provided they are consistent with this reorganization.

These changes are effective upon date of signature.

Sharon B. Arnold,
Acting Director.

[FR Doc. 2016-08679 Filed 4-14-16; 8:45 am]

BILLING CODE 4160-90-P